DEPARTMENT OF HOMELAND SECURITY

Federal Emergency Management Agency

[Docket ID FEMA-2013-0002]

Final Flood Hazard Determinations

AGENCY: Federal Emergency Management Agency, DHS.

ACTION: Final Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of September 27, 2013 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and ninety (90) days have elapsed since that publication. The Deputy Associate Adminstrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov. The flood hazard determinations are made final in the watersheds and/or communities listed in the table below.

I. Non-watershed-based studies:

Community | Community map repository address
Oneida County, New York (All Jurisdictions) Docket No.: FEMA-B-1255
City of Rome | City Hall, 198 North Washington Street, Rome, NY 13440.
City of Sherrill | City Hall, 377 Sherrill Road, Sherrill, NY 13461.
City of Utica | City Hall, 1 Kennedy Plaza, Utica, NY 13502.
Town of Annsville | Annsville Code Enforcement Office, 9042 Meadows Road, Taberg, NY 13471.
Town of Augusta | Augusta Town Hall Offices, 185 North Main Street, Oriskany Falls, NY 13425.
Town of Ava | Town Hall, 11468 State Route 26, Ava, NY 13303.
Town of Boonville | Town Hall, 13149 State Route 12, Boonville, NY 13309.
Town of Bridgewater | Town Hall, 404 State Route 8, Bridgewater, NY 13313.
Town of Camden | Town Hall, 47 2nd Street, Camden, NY 13316.
Town of Deerfield | Town Clerk's Office, 6329 Walker Road, Deerfield, NY 13502.
Town of Florence | Florence Town Hall, 11897 Thompson Corners Florence Road, Camden, NY 13316.
Town of Floyd | Floyd Town Hall, 8299 Old Floyd Road, Rome, NY 13440.
Town of Forestport | Town Hall, 12012 Woodhull Road, Forestport, NY 13338.
Town of Kirkland | Kirkland Town Hall, 3699 State Route 12B, Clinton, NY 13323.
Town of Lee | Lee Town Hall, 5808 Stokes Lee Center Road, Lee Center, NY 13363.
Town of Marcy | Municipal Offices, 8801 Paul Becker Road, Marcy, NY 13403.
Town of Marshall | Marshall Town Hall, 2651 State Route 12B, Deansboro, NY 13328.
Town of New Hartford | Codes and Zoning Office, 111 New Hartford Street, New Hartford, NY 13413.
Town of Paris | Paris Town Hall, 2580 Sulphur Springs Road, Sauquoit, NY 13456.
Town of Remsen | Town Hall, 10540 Academy Lane, Remsen, NY 13438.
Town of Sangerfield | Town Hall, 1084 State Route 12, Sangerfield, NY 13455.
Town of Steuben | Steuben Town Clerk's Office, 9458 Soule Road, Remsen, NY 13438.
Town of Trenton | Trenton Town Clerk's Office, 8520 Old Poland Road, Barneveld, NY 13304.
Town of Vernon | Town Offices, 4305 Peterboro Road, Vernon, NY 13476.
Town of Verona | Verona Town Office Building, 6600 Germany Road, Durhamville, NY 13054.
Town of Vienna | Vienna Town Hall, 2083 State Route 49, North Bay, NY 13123.
Town of Western | Western Town Hall, 9219 Main Street, Westernville, NY 13486.
Town of Westmoreland | Town Hall, 100 Station Road, Westmoreland, NY 13490.
Town of Whitestown | Whitestown Town Hall, 8539 Clark Mills Road, Whitesboro, NY 13492.
Village of Barneveld | Village Hall, Trenton Municipal Center, 8520 Old Poland Road, Barneveld, NY 13304.
Village of Boonville | Village Hall, 13149 State Route 12, Boonville, NY 13309.
Village of Bridgewater | Village Hall, 7509 State Route 20, Bridgewater, NY 13313.
Village of Camden | Village Hall, 14 Church Street, Camden, NY 13316.
Village of Clayville | Village Office, 2505 Foundry Place, Clayville, NY 13322.
Village of Clinton | Village Hall, Lumbard Hall, 100 North Park Row, Clinton, NY 13323.
Village of Holland Patent | Village Office, 9544 Depot Street, Holland Patent, NY 13354.
Village of New Hartford | Village Codes Department, Butler Hall, 48 Genesee Street, New Hartford, NY 13413.
Village of New York Mills | Village Clerk's Office, 1 Maple Street, New York Mills, NY 13417.
Village of Oneida Castle | Village Hall, 1 1st Street, Oneida Castle, NY 13421.
Village of Oriskany | Village Office, 708 Utica Street, Oriskany, NY 13424.
Village of Oriskany Falls | Village Hall, 185 North Main Street, Oriskany Falls, NY 13425.
Village of Prospect | Village Hall, 116 Upper State Street, Prospect, NY 13435.
Village of Remsen | Village Office, 10606 Pine Street, Remsen, NY 13438.
Village of Sylvan Beach | Village Hall, 808 Marina Drive, Sylvan Beach, NY 13157.
Village of Vernon | Village Hall, 8 Ruth Street, Vernon, NY 13476.
Village of Waterville | Village Hall, 122 Barton Avenue, Waterville, NY 13480.
Village of Whitesboro | Municipal Office, 10 Moseley Street, Whitesboro, NY 13492.
Village of Yorkville | Village Hall, 30 6th Street, Yorkville, NY 13495.

(Catalog of Federal Domestic Assistance No. 97.022, “Flood Insurance.”)

Roy E. Wright,
Deputy Associate Administrator for Mitigation, Department of Homeland Security, Federal Emergency Management Agency.

[FR Doc. 2013-12002 Filed 5-20-13; 8:45 am]

BILLING CODE 9110-12-P